DEPARTMENT OF COMMERCE

National Oceanic and Atmospheric Administration

[RTID 0648-XD607]

Gulf of Mexico Fishery Management Council; Public Meetings

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a 4-day hybrid meeting to consider actions affecting the Gulf of Mexico fisheries in the exclusive economic zone (EEZ).

DATES: The meeting will convene Monday, January 29 through Thursday, February 1, 2024, 8:30 a.m.—5 p.m., CST daily.

ADDRESSES:

Meeting address: The meeting will take place at Hyatt Centric French Quarter, located at 800 Iberville Street, New Orleans, LA 70112.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, January 29, 2024; 8:30 a.m.-5 p.m., CST

The meeting will begin with the Administrative/Budget Committee reviewing and discussing the Proposed Standing and Special Scientific and Statistical Committee (SSC) Reorganization for June 2024 Appointments, Ad Hoc and Standing Advisory Panels, Proposed 2024 Activities and Budget, and the 2020-2023 Administrative Award Anticipated Funding and Proposed Carryover Projects. The committee will review and approve Proposal Activities for Phase II Inflation Reduction Act Funding for the Regional Management Councils and finalize the Steering Committee makeup for the Recreational Initiative.

The Law Enforcement Committee will review summaries from the Law Enforcement Technical Committee discussion on Red Snapper Individual Fishing Quota (IFQ) Advanced Landings Notifications and additional topics.

The Data Collection Committee will receive a summary report from the Ad Hoc Charter For-hire Data Collection Advisory Panel meeting including recommendations and next steps for For-hire Electronic Reporting. Hold a discussion on Marine Recreational Information Program-Fishing Effort Survey (MRIP-FES) Inventory and Action Plan for the Gulf of Mexico and receive an update on the Status of the Timeline on the Implementation of the Commercial Logbooks.

The Shrimp Committee will receive an update on Early Adopter Program for Shrimp Cellular Vessel Monitoring Systems (cVMS) and discuss Shrimp Future Project: Workshops to Address Current Challenges and Future Scenario Planning.

Tuesday, January 30, 2024; 8:30 a.m.-5 p.m., CST

The Reef Fish Committee will review and discuss draft options for Modification of Mid-Water Snapper Complex Composition and Catch Limits, Gag Grouper Management Measures and Final Action: Draft Abbreviated Framework Action: Modifications to Catch Limits for Gulf of Mexico Lane Snapper. The committee will also review Permit Requirements for Participation in Individual Fishing Quota (IFQ) Programs and review the 2023 Gulf Red Grouper Recreational Landings and Quota Closure.

The Sustainable Fisheries Committee will discuss Allocations and Allocation Review Policy and Summary of SSC Discussion on Incorporation Social Science Theory and methods in Ecosystem Assessments.

Immediately following the Sustainable Fisheries Committee, National Marine Fisheries Service (NMFS) will Host a General Question and Answer Session.

Wednesday, January 31, 2024; 8:30 a.m.-5 p.m., CST

The Outreach and Education Committee will review the 2023 Communications Improvement Plan Progress and 2023 Analytics, 2023 In-Person Event Outreach Progress and 2024 Plan, and Communications Guidelines Book Review. The committee will discuss Fishery Ecosystem Plan Outreach, Coastal Migratory Pelagics Stakeholder Engagement and Management Timeline Tool. The committee will receive an update on Return `Em Right Best Practices Manual and review other items from the O&E Technical Committee Summary.

At approximately 10:45 a.m., CST, the Council will reconvene with a Call to Order, Announcements and Introductions, Adoption of Agenda and Approval of Minutes. The Council will receive updates on NMFS National Seafood Strategy Regional Implementation Plan, update from Bureau of Ocean Energy Management (BOEM) on Wind Energy Development in the Gulf of Mexico and Opportunities to Advance Equity and Environmental Justice (EEJ) in Gulf of Mexico Fisheries through the Southeast EEJ Implementation Plan; and, discuss Exempted Fishing Permit Application.

Following lunch, the Council will hold public comment testimony from 1:30 p.m. to 5 p.m., CST for Final Action Item: Draft Abbreviated Framework Action: Modifications to Catch Limits for Gulf of Mexico Lane Snapper, receive comments on the Southeast EEJ Implementation Plan and Exempted Fishing Permit Application; including, open testimony on other fishery issues or concerns. Public comment may begin earlier than 1:30 p.m. CST but will not conclude before that time. Persons wishing to give public testimony in-person must register at the registration kiosk in the meeting room. Persons wishing to give public testimony virtually must sign up via the link on the Council website. Registration for virtual testimony is open at the start of the meeting, Monday, January 29, at 8:30 a.m., CST and closes 1 hour before public testimony begins on Wednesday, January 31, at 12:30 p.m. CST. Public testimony may end before the published agenda time if all registered in-person and virtual participants have completed their testimony.

Thursday, February 1, 2024; 8:30 a.m.-5 p.m., CST

The Council will receive Committee reports from Administrative/Budget, Law Enforcement, Data Collection, Shrimp, Reef Fish, Sustainable Fisheries, Education and Outreach, and recommendations on Exempted Fishing Permit Application. The Council will receive updates from the following supporting agencies: Louisiana Law Enforcement Efforts; South Atlantic Fishery Management Council; NOAA Office of Law Enforcement (OLE); Gulf States Marine Fisheries Commission; U.S. Coast Guard; U.S. Fish and Wildlife Service; and Department of State.

The Council will discuss Council Planning and Primary Activities and Other Business items, Litigation Update.

Meeting Adjourns

The meeting will be a hybrid meeting; both in-person and virtual participation available. You may register for the webinar to listen-in only by visiting https://www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: January 5, 2024.
Rey Israel Marquez,
Acting Deputy Director, Office of Sustainable Fisheries, National Marine Fisheries Service.

[FR Doc. 2024-00363 Filed 1-9-24; 8:45 am]

BILLING CODE 3510-22-P